INTERNATIONAL TRADE COMMISSION

Notice of Update to the Electronic Document Information System (EDIS)

AGENCY: United States International Trade Commission.

ACTION: Notice of Update to the Electronic Document Information System (EDIS).

SUMMARY: The United States International Trade Commission hereby provides notice of an update to the Commission's Electronic Document Information System (EDIS). The update to EDIS includes an enhanced interface for the filing of electronic documents and a revised Handbook on Electronic Filing Procedures.

FOR FURTHER INFORMATION CONTACT: Marilyn R. Abbott (202-205-2000), Secretary to the Commission, or Brian V. Moran (202-205-2784), Director, Office of Information Technology Services, U.S. International Trade Commission, 500 E Street, SW., Washington, DC 20436. Hearing-impaired persons can obtain information on this matter by contacting the Commission's TDD terminal at 202-205-1810. Persons with mobility impairments who require special assistance in gaining access to the Commission should contact the Office of the Secretary at 202-205-2000. For additional information concerning electronic filing and the Commission in general, please visit the Commission's Web site at http://www.usitc.gov.

SUPPLEMENTARY INFORMATION: A copy of the revised Handbook on Electronic Filing Procedures is accessible at http://www.usitc.gov. Persons with questions regarding the use, procedures, and requirements regarding electronic filing may also contact the EDIS Help Desk at 202-205-3347 or EDISHELP@usitc.gov.

By Order of the Commission.
Issued: March 27, 2006
Marilyn R. Abbott,
Secretary to the Commission.

[FR Doc. E6-4732 Filed 3-30-06; 8:45 am]

BILLING CODE 7020-02-P